POSTAL REGULATORY COMMISSION

Sunshine Act Meetings

Federal Register Citation of Previous Announcement: 75 FR 42792 (July 22, 2010).

PREVIOUSLY ANNOUNCED TIME AND DATE OF MEETING: 11 a.m., Wednesday, August 4, 2010.

CHANGES IN THE MEETING: The date of the meeting has been changed to Tuesday, August 3, 2010.

CONTACT PERSON FOR MORE INFORMATION: Stephen L. Sharfman, General Counsel, stephen.sharfman@prc.gov. or 202-789-6824.

Shoshana M. Grove,
Secretary.

[FR Doc. 2010-19033 Filed 7-30-10; 8:45 am]

BILLING CODE 7710-FW-S